DEPARTMENT OF HEALTH AND HUMAN SERVICES

National Institutes of Health

Center for Scientific Review; Amended Notice of Meeting

Notice is hereby given of a change in the meeting of the Center for Scientific Review Special Emphasis Panel, Topics in Alzheimer's Disease, Mild Cognitive Impairment and Cognitive Aging, March 25, 2022, 10:00 a.m. to March 25, 2022, 8:00 p.m., National Institutes of Health, Rockledge II, 6701 Rockledge Drive, Bethesda, MD 20892 which was published in the Federal Register on March 03, 2022, FR Doc. 2022-04426, 87 FR 12182.

This meeting is being amended to change the Contact Person from Maribeth Champoux to Heidi Friedman, Ph.D., Center for Scientific Review, National Institutes of Health, 6701 Rockledge Drive, Bethesda, MD, 301-379-5623. The meeting is closed to the public.

March 15, 2022.
Miguelina Perez,
Program Analyst, Office of Federal Advisory Committee Policy.

[FR Doc. 2022-05835 Filed 3-18-22; 8:45 am]

BILLING CODE 4140-01-P